COMMISSION ON CIVIL RIGHTS

Sunshine Act Meeting Notice

AGENCY: United States Commission on Civil Rights.

ACTION: Notice of Commission Business Meeting.

DATES: Date and Time: Monday, June 29, 2015; 10:00 a.m. EST.

ADDRESSES: Place: 1331 Pennsylvania Ave. NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

Meeting Agenda

This meeting is open to the public.

I. Approval of Agenda

II. Program Planning

• Housekeeping: Read into the record—Notional votes undertaken by Commission

a. Vote to confirm President's nomination of USCCR Staff Director, Mauro A. Morales

b. Vote to extend the police briefing comment period for an additional 30 days

• Discussion and vote on updated 2015 Statutory Enforcement Report Timeline

• Discussion and vote on Commission Statement commemorating the anniversary of the ADA

• Discussion and vote on Commission Statement commemorating the anniversary of the Voting Rights Act

• Vote to approve Commission letter to EOIR re: Lack of notice to released detainees on court date therefore expediting deportations

• Discussion and vote on Commission letter to Texas Department of Health Services re: Denial of birth certificates to U.S. born children of immigrant parents

• Discussion and vote on Letter by Commission responding to Congressional request to update Native American report

• Discussion and vote on Letter by Commission responding to Congressional delegation letter re: Workplace Discrimination briefing

• Discussion and vote on Commission proclamation to remember Louis Nunez, former USCCR staff director

• Discussion on how to recommit the Commission to planning the commemoration of the 13th & 14th amendments

• Discussion and vote on Commission involvement in National Civil Rights Conference organized by EPA and USDA

• Discussion on the process by which we will proceed on FY 2016 projects.

III. Management and Operations

• Staff Director Report

• Report by SAC Chairs for Missouri and New York

• Report on status of pending reports and reports voted to be revised

IV. State Advisory Committee (SAC) Appointments

• Kentucky

• Virginia

V. Adjourn Meeting

Dated: June 16, 2015.
David Mussatt,
Chief, Regional Programs Unit.

[FR Doc. 2015-15120 Filed 6-16-15; 4:15 pm]

BILLING CODE 6335-01-P